DEPARTMENT OF ENERGY

Federal Energy Regulatory Commission

Notice of Transfer of Licenses and Substitution of Relicense Applicant, Soliciting Comments, Motions to Intervene, and Protests

December 13, 2001.

Take notice that the following hydroelectric applications have been filed with the Commission and are available for public inspection:

a. Application Types and Project Nos: (1) Transfer of 26 Hydroelectric Licenses for Project Nos. 77-116, 96-031, 137-031, 175-018, 178-015, 233-082, 606-020, 619-095, 803-055, 1061-056, 1121-058, 1333-037, 1354-029, 1403-042, 1962-039, 1988-030, 2105-087, 2106-039, 2107-012, 2130-030, 2155-022, 2310-120, 2467-016, 2661-016, 2687-022, and 2735-071; (2) Request for Substitution of Applicant for New License in Project Nos. 233-081, 1354-005, 2107-010, 2661-012, and 2687-014; and (3) Transfer of Transmission-Line-Only Licenses for Project Nos. 2118-006, 2281-005, 2479-003, 2678-001, 2781-004, 2784-001, 4851-004, 5536-001, 5828-003, 7009-004, and 10821-002.

b. Date Filed: November 30, 2001.

c. Applicants: Pacific Gas and Electric Company (PG&E), subsidiaries of Electric Generation LLC, and ETrans LLC. The City of Santa Clara, CA, is now and will remain co-licensee for Project No. 619.¹

¹ The application requests waiver of any requirement for making Santa Clara a co-applicant. It also states that PG&E is hopeful that it can obtain Santa Clara's support for the application. Failure to make Santa Clara a co-applicant may delay the processing of the application for Project No. 619.

d. Project Names, Federal land use, and Locations: All of these projects are in California.

Hydroelectric Projects: The Potter Valley Project is in Mendocino National Forest (NF) on the Eel and East Fork Russian Rivers in Lake and Mendocino Counties. The Kerchoff 1 and 2 Project uses Bureau of Land Management (BLM) and Bureau of Reclamation (BOR) land and is in Sierra NF on the San Joaquin River in Fresno and Madera Counties. The Mokelumne Project uses BLM land and is in Stanislaus NF and El Dorado NF on the Mokelumne River, its tributaries, and the Bear River in Alpine, Amador, and Calaveras Counties. The Balch 1 and 2 Project is in Sierra NF and Sequoia NF on the North Fork Kings River in Fresno County. The Kern Canyon Project is in Sequoia NF on the Kern River in Kern County. The Pit 3, 4, and 5 Project is in Shasta NF on the Pit River in Shasta County. The Kilarc-Cow Project uses BLM land on Old Cow and South Cow Creeks in Shasta County. The Bucks Creek Project is in Plumas NF and Lasses NF on Bucks and Grizzly Creeks in Plumas County. The Desabla-Centerville Project uses BLM land and is in Lassen NF on the West Branch Feather River and Butte Creek in Butte County. The Phoenix Project uses BLM land and is in Stanislaus NF on the South Fork of the Stanislaus River in Tuolumne County. The Battle Creek Project is in Lassen NF on Battle Creek in Shasta and Tehama Counties. The Tule River Project is in Sequoia NF on the North Fork of the Middle Fork Tule River in Tulare County. The Crane Valley Project is in Sierra NF on various creeks within the San Joaquin River Basin in Fresno and Madera Counties. The Narrows Project uses U.S. Army Corps of Engineers (COE) land on the Yuba River in Nevada County. The Rock Creek-Cresta Project is in Plumas NF on the North Fork Feather River in Butte and Plumas Counties. The Hass-Kings Project uses COE and BLM land and is in Sierra NF and Sequoia NF on the North Fork Kings River in Fresno County. The Upper North Fork Feather River Project is in Plumas NF and Lassen NF on the North Fork Feather River in Plumas County. The McCloud-Pit Project uses BLM land and is in Shasta-Trinity NF on the McCloud and lower Pit Rivers in Shasta County. The Poe Project is in Plumas NF on the North Fork Feather River in Butte County. The Spring Gap-Stanislaus Project is in Stanislaus NF on the Stanislaus River and tributaries in Calaveras and Tuolumne Counties. The Chili Bar Project uses BLM land and is in El Dorado NF on the South Fork of the American River in El Dorado County. The Drum-Spaulding Project uses BLM land and is in Tahoe NF on the South Yuba and Bear Rivers in Nevada and Placer Counties. The Merced Falls Project uses BLM land on the Merced River in Merced and Mariposa Counties. The Hat Creek 1 and 2 Project is on Hat Creek in Shasta County. The Pit 1 Project is on the Tule, Little Tule, Fall, and Pit Rivers in Shasta County. The Helms Project uses BOR land and is in Sierra NF on Helms Creek and the North Fork Kings River in Fresno County.

Transmission-Line-Only Projects: The Donnells-Standard City Project uses BOR land and is in Stanislaus NF in Tuolumne County. The Woodleaf-Palermo Project is in Plumas NF in Butte County. The French Meadows Project is in El Dorado NF and Tahoe NF in San Francisco County. The Narrows No. 2—Smartville Project uses COE land in Yuba and Nevada Counties. The New Melones Project uses COE and BLM land in Calaveras County. The Rollins Project is in Nevada and Placer Counties. The Sly Creek Project is in Plumas NF in Butte County. The Pardee Tap No. 2 and Camanche Project is in Calaveras, Amador, and San Joaquine Counties. The Monticello Project uses BOR land in Solano and Napa Counties. The Friant Project uses BOR land in Fresno County. The Camp Far West Project is in Placer and Yuba Counties.

e. Filed Pursuant to: Federal Power Act, 16 U.S.C. 791(a)-825(r).

f. Applicant Contacts: Ms. Annette Faraglia, Pacific Gas and Electric Company, P.O. Box 7442, San Francisco, CA 94120-7442, (415) 973-7145 and Mr. John A. Whittaker, IV, Winston & Strawn, 1400 L Street NW, Washington, DC 20005, (202) 371-5700.

g. FERC Contact: James Hunter, (202) 219-2839.

h. Deadline for filing motions to intervene, protests, and comments: 60 days from the issue date of this notice.

i. All documents (original and eight copies) should be filed with: Linwood A. Watson, Jr., Acting Secretary, Federal Energy Regulatory Commission, 888 First Street, NE, Washington DC 20426. Comments, protests and interventions may be filed electronically via the Internet in lieu of paper. See, 18 CFR 385.2001(a)(1)(iii) and the instructions on the Commission's Web site at http://www.ferc.gov under the “e-Filing” link. Please include the noted project numbers on any comments or motions filed.

j. Description of Proposal: PG&E requests approval to transfer PG&E's 26 hydroelectric licenses and 11 transmission-line-only licenses to other entities. The purpose of these applications is to implement one part of a comprehensive Plan of Reorganization (Plan) for PG&E under the U.S. Bankruptcy Code. Under the Plan, PG&E will separate and restructure its businesses and divide its operations and assets among different operating companies. As to PG&E's FPA Part I jurisdictional facilities, the Plan proposes that PG&E's 26 licensed hydroelectric projects and related licenses be transferred to 26 separate California limited liability company subsidiaries (LLC Subs) of a new generation company (Electric Generation LLC ), which will operate and maintain the projects for the LLC Subs under leases with them, and that PG&E's 11 transmission-line-only projects and related licenses be transferred to a new transmission company (ETrans LLC). The names of the LLC Subs mirror the name of the project of which they are to become the new licensee. For example, for the Potter Valley Project No. 77, the name of the LLC Sub that will become the new licensee of the project is Potter Valley Project LLC. After the consummation of the Plan, PG&E, as a reorganized company, will operate as a stand alone local electric and gas distribution business. PG&E intends to retain property rights in certain project facilities that involve energy distribution functions in Project Nos. 77, 96, 137, 175, 233, 619, 803, 1333, 1354, 1403, 2130, 2310, and 2467.

The transfer applications were filed within five years of the expiration of the licenses for Project Nos. 233, 1354, 2107, 2661, and 2687, which are subject of pending relicense applications. In Hydroelectric Relicensing Regulations Under the Federal Power Act (54 F.R. 23,756; FERC Stats. and Regs., Regs. Preambles 1986-1990 30,854 at p. 31,437), the Commission declined to forbid all license transfers during the last five years of an existing license, and instead indicated that it would scrutinize all such transfer requests to determine if the transfer's primary purpose was to give the transferee an advantage in relicensing (id. at p. 31,438 n. 318).

Several of the transfer applications also contain separate requests for approval of the substitution of the transferee for the transferor as the applicant in the pending relicensing applications filed by PG&E in Project Nos. 233-081, 1354-005, 2107-010, 2661-012, and 2687-014.

k. Copies of these filings are on file with the Commission and are available for public inspection. The filings may also be viewed on the web at http://www.ferc.gov using the “RIMS” link, select “Docket#” and follow the instructions (call (202) 208-2222 for assistance). Copies are also available for inspection and reproduction at the addresses in item f above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, or “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 01-31235 Filed 12-18-01; 8:45 am]

BILLING CODE 6717-01-P